DEPARTMENT OF HEALTH AND HUMAN SERVICES

Food and Drug Administration

21 CFR Part 101

[Docket No. 01N-0548]

RIN 0910-AA19

Food Labeling; Guidelines for Voluntary Nutrition Labeling of Raw Fruits, Vegetables, and Fish; Identification of the 20 Most Frequently Consumed Raw Fruits, Vegetables, and Fish; Correction

AGENCY: Food and Drug Administration, HHS.

ACTION: Proposed rule; correction and extension of comment period.

SUMMARY: The Food and Drug Administration (FDA) is correcting a proposed rule that appeared in the Federal Register of March 20, 2002 (67 FR 12918). The document proposed to amend the voluntary nutrition labeling regulations by updating the names and the nutrition labeling values for the 20 most frequently consumed raw fruits, vegetables, and fish in the United States. The document published with an incorrect docket number. This document corrects that error and provides additional time to submit comments.

DATES: Submit written or electronic comments on this proposal by August 20, 2002.

ADDRESSES: Submit written comments to the Dockets Management Branch (HFA-305), Food and Drug Administration, 5630 Fishers Lane, rm. 1061, Rockville, MD 20852. Submit electronic comments to http://www.fda.gov/dockets/ecomments.

FOR FURTHER INFORMATION CONTACT: Doris Tucker, Office of Policy, Planning, and Legislation (HF-27), Food and Drug Administration, 5600 Fishers Lane, Rockville, MD 20857, 301-827-7010.

SUPPLEMENTARY INFORMATION: In FR Doc. 02-6709, appearing on page 12918 in the Federal Register of Wednesday, March 20, 2002, the following correction is made:

1. On page 12918, in the first column, “[Docket No. 01N-0458]” is corrected to read: “[Docket No. 01N-0548]”.

Dated: May 31, 2002.
Margaret M. Dotzel,
Associate Commissioner for Policy.

[FR Doc. 02-14088 Filed 5-31-02; 4:11 pm]

BILLING CODE 4160-01-S